DEPARTMENT OF HOMELAND SECURITY

Coast Guard

[USCG-2009-1137]

Merchant Marine Personnel Advisory Committee; Meeting

AGENCY: Coast Guard, DHS.

ACTION: Notice of meeting.

SUMMARY: The Merchant Marine Personnel Advisory Committee (MERPAC) will hold a teleconference to discuss and prepare recommendations for the Coast Guard concerning the notice of proposed rulemaking (NPRM) on the Implementation of the 1995 Amendments to the International Convention on Standards of Training, Certification and Watchkeeping for Seafarers, 1978 (USCG-2004-17914). These recommendations were developed during a MERPAC working group meeting on January 5-6, 2010, and this teleconference will be held to finalize those proposed recommendations. The teleconference will be open to the public.

DATES: The teleconference call will take place on Thursday, February 11, 2010, from 11 a.m. until 2 p.m., EST. This teleconference may close early if all business is finished. Written material should reach the Coast Guard on or before February 2, 2010. Requests to have a copy of your material distributed to each member of the committee should reach the Coast Guard on or before February 2, 2010.

ADDRESSES: Members of the public may participate by dialing 1-877-950-5410. (Persons using international connections should dial 1-720-348-6543). You will then be prompted to dial your conference room number, which is 9876776#. Please ensure that you enter the “#” mark after the conference room number. Public participation is welcomed; however, the number of teleconference lines is limited, and lines are available first-come, first-served. Members of the public may also participate by coming to Room 5-0622, U.S. Coast Guard Headquarters, 2100 Second Street, SW., Washington, DC 20593-0001. You will be required to show picture identification in the form of a government issued identification card. We request that members of the public who plan to attend this meeting notify Mr. Mark Gould at 202-372-1409 so that he may notify building security officials. Send written material and requests to make oral presentations to Mr. Gould. This notice may be viewed in our online docket, USCG-2009-1137, at http://www.regulations.gov.

FOR FURTHER INFORMATION CONTACT: Mr. Mark Gould, Assistant Designated Federal Officer of MERPAC, telephone 202-372-1409, fax 202-372-1426.

SUPPLEMENTARY INFORMATION: Notice of this meeting is given under the Federal Advisory Committee Act, 5 U.S.C. App. (Pub. L. 92-463). MERPAC is chartered under that Act. It provides advice and makes recommendations to the Assistant Commandant for Operations on issues concerning merchant marine personnel, such as implementation of the International Convention on Standards of Training, Certification and Watchkeeping for Seafarers (STCW), 1978, and developing standards of competency for ship's security officers.

Tentative Agenda of Meeting

The tentative agenda for the February 11, 2010, Committee meeting is as follows:

(1) Welcome and Opening Remarks—MERPAC Chairman Captain Andrew McGovern (11 a.m.-11:05 a.m.).

(2) Open discussion on the docket of the Coast Guard's NPRM concerning the implementation of the 1995 amendments to the International Convention on Standards of Training, Certification and Watchkeeping for Seafarers, 1978 (USCG-2004-17914) (11:05 a.m.-12:30 p.m.). (3) Public comment period (12:30 p.m.-1 p.m.).

(4) MERPAC vote on recommendations for the Coast Guard (1 p.m.-2 p.m.).

(5) Adjourn (2 p.m.).

This agenda is subject to change, and the meeting may adjourn early if all committee business has been completed.

Procedural

The Chairman of MERPAC is empowered to conduct the teleconference in a way that will, in his judgment, facilitate the orderly conduct of business. During its teleconference, the committee welcomes public comment. The committee will make every effort to hear the views of all interested parties, including the public. Written comments should reach the Coast Guard no later than February 2, 2010 and may be submitted to Mr. Mark Gould, Assistant Designated Federal Officer, MERPAC, at Commandant (CG-5221), ATTN MERPAC, U.S. Coast Guard, 2100 Second St., SW STOP 7126, Washington, DC 20593-7126.

Information on Services for Individuals with Disabilities

For information on facilities or services for individuals with disabilities or to request special assistance at the meeting, contact Mr. Gould as soon as possible.

Dated: January 19, 2010.
J.G. Lantz,
Director of Commercial Regulations and Standards.

[FR Doc. 2010-1415 Filed 1-25-10; 8:45 am]

BILLING CODE 9110-04-P